FEDERAL RETIREMENT THRIFT INVESTMENT BOARD

Sunshine Act Meeting

TIME AND DATE: 9 a.m. (Eastern Time) February 27, 2012.

PLACE: 2nd Floor Training Room, 1250 H Street NW., Washington, DC 20005.

STATUS: Parts will be open to the public and parts will be closed to the public.

MATTERS TO BE CONSIDERED:

Parts Open to the Public

1. Approval of the Minutes of the January 23, 2012 Board Member Meeting

2. Thrift Savings Plan Activity Report by the Executive Director

a. Monthly Participant Activity Report

b. Investment Performance Report

c. Legislative Report

3. Review of Audit Recommendations

4. Audit Reports

5. Department of Labor Audit Presentation

6. Review and Evaluation of Investment Fund Indexes

7. Status of Current Investment Management Contract

8. Board Meeting Calendar Review

9. FRTIB Move Update

10. Roth Contribution Feature Update

Parts Closed to the Public

11. Procurement

12. Predecisional Matters

CONTACT PERSON FOR MORE INFORMATION: Thomas J. Trabucco, Director, Office of External Affairs, (202) 942-1640.

Dated: February 17, 2012.
Thomas K. Emswiler,
Secretary, Federal Retirement Thrift Investment Board.

[FR Doc. 2012-4248 Filed 2-17-12; 4:15 pm]

BILLING CODE 6760-01-P